DEPARTMENT OF HEALTH AND HUMAN SERVICES

National Institutes of Health

National Cancer Institute; Cancellation of Meeting

Notice is hereby given of a change in the meeting of the National Cancer Institute Special Emphasis Panel, May 19, 2014, 1:00 p.m. to May 19, 2014, 3:00 p.m., National Cancer Institute Shady Grove, Shady Grove, 9609 Medical Center Drive, Room 6W030, Rockville, MD, 20850 which was published in the Federal Register on May 7, 2014, 79FR26263.

This meeting was canceled due to unforeseen circumstances. A new date will be set in the near future.

Dated: May 22, 2014.
Melanie J. Gray,
Program Analyst, Office of Federal Advisory Committee Policy.

[FR Doc. 2014-12273 Filed 5-27-14; 8:45 am]

BILLING CODE 4140-01-P